DEPARTMENT OF LABOR

Occupational Safety and Health Administration

[Docket No. NACE-2002-1]

National Advisory Committee on Ergonomics

AGENCY: Occupational Safety and Health Administration (OSHA), Department of Labor.

ACTION: Notice of intent to establish a National Advisory Committee on Ergonomics; request for nominations

SUMMARY: The Secretary of Labor intends to establish a Committee to advise the Assistant Secretary of Labor for Occupational Safety and Health (Assistant Secretary) on ergonomic guidelines, research, and outreach, and assistance. The Committee will consist of not more than 15 members who will be selected based upon their expertise or experience with ergonomic issues. OSHA invites interested parties to submit nominations for membership on the Committee.

DATES: Nominations for membership (whether hard copy, electronic mail, or facsimile) must be received by June 17, 2002.

ADDRESSES: Nominations may be submitted in hard copy, electronic mail, or facsimile.

Submitting nominations in hard copy: Nominations for membership on the Committee may be hand-delivered, or sent by Express Mail or other overnight delivery service, to: U.S. Department of Labor, OSHA Docket Office, Docket NACE-2002-1, Room N-2625, 200 Constitution Ave., NW., Washington, DC 20210, Telephone: (202) 693-2350.

Submitting nominations electronically: Nominations for membership on the Committee may be sent electronically from the OSHA website at http://ecomments.osha.gov. Nominations may also be faxed to the OSHA Docket Office at (202) 693-1648.

FOR FURTHER INFORMATION CONTACT: Ms. Bonnie Friedman, OSHA, Office of Public Affairs, Rm. N-3647, U.S. Department of Labor, 200 Constitution Avenue, NW., Washington, D.C. 20210; Telephone: (202) 693-1999.

SUPPLEMENTARY INFORMATION:

I. Background

On April 4, 2002, the Secretary of Labor announced a comprehensive approach to ergonomics. This approach consists of four prongs: Guidelines; Enforcement; Outreach and Assistance; and Research. In order for this comprehensive approach to be successful, the Secretary believes it is necessary and in the public interest to establish a National Advisory Committee on Ergonomics. The Committee will advise the Assistant Secretary of Labor for Occupational Safety and Health (Assistant Secretary) on ergonomic guidelines, research, and outreach and assistance. Specifically, the Assistant Secretary intends to seek advice from the Committee in the following areas: (1) Information related to various industry or task-specific guidelines; (2) identification of gaps in the existing research based related to applying ergonomic principles to the workplace; (3) current and projected research needs and efforts; (4) methods of providing outreach and assistance that will communicate the value of ergonomics to employers and employees, and (5) ways to increase communication among stakeholders on the issue of ergonomics. The Committee will be expected to report periodically to the Assistant Secretary on its findings and recommendations. Where Committee recommendations involve research efforts, the Assistant Secretary will forward such recommendations to NIOSH.

II. Committee Formation

The Committee will consist of not more than 15 members. The Assistant Secretary recognizes that ergonomics involves a wide range of complex issues. For that reason, the Agency encourages the nomination of a broad range of individuals as possible Committee members, including those with specialized scientific or medical expertise related to ergonomics, or others who have knowledge or experience concerning the issues to be examined by the Committee. The Committee will be fairly balanced in terms of the points of view represented and the functions to be performed. OSHA is requesting that the Committee be chartered for a two year period. OSHA anticipates that during its two-year term, the Committee will meet between 2 and 4 times per year.

The Committee will function solely as an advisory body, and in compliance with the provisions of the Federal Advisory Committee (5 U.S.C. App. 2), 41 CFR Part 102-3, and DLMS 3 Chapter 1600.

III. Public Participation

Nominees for committee membership should be qualified by experience, knowledge, and expertise. Interested persons may nominate themselves or others for membership on the Committee. Each nomination must include: (1) The name of the nominee; (2) the address, phone number, title, position, experience, qualifications and resume of the nominee; and (3) a written commitment from the nominee that he/she can and will attend regular meetings of the Committee and participate in good faith. In addition, please include an e-mail address or fax number, so that the Agency may acknowledge that it has received your nomination. (For information on dates and addresses for submitting nominations, see the DATES and ADDRESSES section of this notice, above.) Because of security-related problems in receiving regular mail service in a timely manner, OSHA requests that nominations be hand-delivered to the Docket Office, or sent by Express Mail or other overnight delivery service, electronic mail, or facsimile. Please do not send nominations by more than one of these media.

Consistent with the Department's recently-issued procedural rule on OSHA Advisory Committees (67 FR 658, January 7, 2002), appointment of a member to this Advisory Committee for a fixed time period shall not affect the authority of the Assistant Secretary to remove, in his discretion, any member at any time. If a member resigns or is removed before his or her term expires, the Assistant Secretary may appoint for the remainder of the unexpired term a new member who shall represent the same interest as his or her predecessor.

Authority: This notice was prepared under the direction of John L. Henshaw, Assistant Secretary for Occupational Safety and Health. It is issued under the Federal Advisory Committee Act (FACA) (5 U.S.C. App. 2), GSA's FACA Regulations (41 CFR Part 102-3, and DLMS 3 Chapter 1600.

Issued at Washington, DC, this 29th day of April, 2002.
John L. Henshaw,
Assistant Secretary of Labor.

[FR Doc. 02-10961 Filed 4-30-02; 10:00 am]

BILLING CODE 4510-26-M